DEPARTMENT OF COMMERCE

International Trade Administration

A-570-849

Cut-to-Length Carbon Steel Plate from the People's Republic of China: Final Results and Final Partial Rescission of Antidumping Duty Administrative Review

AGENCY: Import Administration, International Trade Administration, Department of Commerce.

SUMMARY: On August 10, 2006, the Department of Commerce (“Department”) published in the Federal Register its preliminary results in the administrative review of the antidumping duty order on cut-to-length carbon steel plate (“CTL plate”) from the People's Republic of China (“PRC”) for the period November 1, 2004, through October 31, 2005. See Cut-to-Length Carbon Steel Plate from the People's Republic of China: Notice of Rescission, In Part, and Preliminary Results of Antidumping Duty Administrative Review, 71 FR 45768 (August 10, 2006) (“Preliminary Results”). Based upon our analysis of the comments received, as well as the hearing conducted, in this review, the Department continues to find that application of adverse facts available (“AFA”) is warranted with respect to China Metallurgical Import & Export Liaoning Company (“Liaoning Company”). The Department is also rescinding the administrative review with respect to Angang New Steel Co., Ltd. and Angang Group Hong Kong Co., Limited (collectively “Angang”), as its request for review was timely withdrawn in accordance with 19 CFR 351.213(d)(1).

EFFECTIVE DATE: December 18, 2006.

FOR FURTHER INFORMATION CONTACT: Juanita H. Chen or Blanche Ziv, AD/CVD Operations, Office 8, Import Administration, International Trade Administration, U.S. Department of Commerce, 1401 Constitution Avenue, NW, Washington, DC 20230; telephone: 202-482-1904 or 202-482-4207, respectively.

SUPPLEMENTARY INFORMATION:

Background

On December 22, 2005, the Department published a notice of initiation of this administrative review of the antidumping order on CTL plate from the PRC for the period November 1, 2004, through October 31, 2005, covering Liaoning Company and Angang. See Initiation of Antidumping and Countervailing Duty Administrative Reviews and Request for Revocation in Part, 70 FR 76024 (December 22, 2005). On August 10, 2006, the Department published its Preliminary Results in this administrative review, preliminarily applying AFA to Liaoning Company and preliminarily rescinding the review of Angang. In the Preliminary Results, the Department also provided interested parties an opportunity to comment and request a hearing on the Preliminary Results. On September 11, 2006, importer Marubeni-Itochu Steel America Inc. (“MISA”) filed a notice of appearance in the proceeding, submitted a case brief and requested a hearing. On September 18, 2006, the Department received rebuttal briefs from petitioner Nucor Corporation and interested party domestic producer IPSCO Steel Inc. The Department held a public hearing on October 26, 2006. See transcript “In the Matter of: Cut to Length Carbon Steel Plate from the Peoples Republic of China” (October 26, 2006).

Period of Review

The period of review (“POR”) is November 1, 2004, through October 31, 2005.

Scope of the Order

The products covered by this order include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot-rolled, neither clad, plated, nor coated with metal, whether or not painted, varnished, or coated with plastics or other nonmetallic substances, 4.75 millimeters or more in thickness and of a width which exceeds 150 millimeters and measures at least twice the thickness, as currently classifiable in the Harmonized Tariff Schedule of the United States (“HTSUS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included in this order are flat-rolled products of non-rectangular cross-section where such cross-section is achieved subsequent to the rolling process (i.e., products which have been “worked after rolling”) - for example, products which have been beveled or rounded at the edges. Excluded from this order is grade X-70 plate. Also excluded from this order is certain carbon cut-to-length steel plate with a maximum thickness of 80 mm in steel grades BS 7191, 355 EM, and 355 EMZ, as amended by Sable Offshore Energy Project specification XB MOO Y 15 0001, types 1 and 2. Although the HTSUS subheadings are provided for convenience and customs purposes, the written description of the scope is dispositive.

Partial Rescission of Review

In the Preliminary Results, the Department preliminarily rescinded the review with respect to Angang, which timely withdrew its request for administrative review within the extended time limit granted by the Department. On May 15, 2006, notwithstanding its withdrawal of its request for review, Angang filed a letter to the Department requesting that the Department issue specific liquidation instructions on one of its shipments made during the POR. Since the issuance of the Preliminary Results, no party has demonstrated that the review should not be rescinded with respect to Angang. Pursuant to 19 C.F.R. 351.213(d)(1), the Department “will rescind an administrative review” if the review request is withdrawn in a timely manner and no other party requested a review. Accordingly, as Angang's withdrawal was timely and no other party requested a review for Angang, we are rescinding this administrative review with respect to Angang.

Analysis of Comments Received

On September 11, 2006, importer MISA requested a hearing on the Department's decision not to issue liquidation instructions as requested by Angang. The issue raised in the case and rebuttal briefs by parties to this proceeding and to which we have responded is addressed in the Issue and Decision Memorandum to David M. Spooner, Assistant Secretary for Import Administration, from Stephen J. Claeys, Deputy Assistant Secretary for Import Administration, dated December 8, 2006, which is adopted herein, by reference (“Issue and Decision Memorandum”). The Issue and Decision Memorandum is on file in the Central Records Unit, room B-099 of the Herbert C. Hoover Building and may be accessed on the Web at http://ia.ita.doc.gov/frn/index.html. The paper copy and electronic version of the Issue and Decision Memorandum are identical in content.

Changes Since The Preliminary Results

Based on our analysis of the comments received, the Department has made no changes to the Preliminary Results.

Facts Available

In the Preliminary Results, the Department found that Liaoning Company did not demonstrate that it was entitled to a separate rate because the information it provided was incomplete and unreliable. For these final results, the Department continues to find that, because Liaoning Company did not demonstrate its eligibility for separate-rate status, it is part of the PRC-wide entity. In the Preliminary Results, the Department based the margin for the PRC-wide entity, including Liaoning Company, on total AFA based on the PRC-wide entity's failure to cooperate by not acting to the best of its ability in providing the requested information. See Preliminary Results, 71 FR 45768, 45770-45771 (August 10, 2006).

The Department continues to find, in accordance with section 776(a) of the Tariff Act of 1930, as amended (“Act”), that it is appropriate to continue to apply total AFA to the PRC-wide entity, including Liaoning Company, as it failed to provide the requested information. For these final results, we continue to find that as AFA, the prior PRC-wide entity rate of 128.59 percent continues to be appropriate.

A complete explanation of the selection, corroboration, and application of the AFA rate can be found in the Preliminary Results. See Preliminary Results, 71 FR 45768. The Department did not receive comments with regard to its preliminary findings for Liaoning Company as part of the PRC-wide entity. Further, no information was submitted since the Preliminary Results that calls into question the reliability of the Department's selection, corroboration, and application of AFA in this review. Accordingly, for the final results, we continue to apply AFA as noted above and in our Preliminary Results.

Final Results of Review

As a result of this review, the Department determines that the weighted-average dumping margin of 128.59 percent exists for the PRC-wide entity, which includes Liaoning Company, for the period November 1, 2004, through October 31, 2005.

Cash Deposit Requirements

The following cash-deposit requirements will be effective upon publication of these final results of administrative review for all shipments of CTL plate from the PRC entered, or withdrawn from warehouse, for consumption on or after the publication date, as provided for by section 751(a)(2)(C) of the Act: (1) for previously investigated or reviewed PRC and non-PRC exporters not subject to this review that have separate rates, the cash-deposit rate will continue to be the exporter-specific rate published for the most recent proceeding; (2) for all other PRC exporters, including Liaoning Company, the cash-deposit rate will be 128.59 percent (i.e. the PRC-wide rate); and (3) for all other non-PRC exporters, the cash-deposit rate will be the rate applicable to the PRC exporter that supplied that exporter. These cash deposit requirements, when imposed, shall remain in effect until publication of the final results of the next administrative review.

Assessment Rates

The Department intends to issue assessment instructions directly to U.S. Customs and Border Protection (“CBP”) 15 days after the date of publication of these final results of administrative review. Because Liaoning Company is part of the PRC-wide entity, the Department will instruct CBP to liquidate its entries of subject merchandise at 128.59 percent, the PRC-wide rate.

Notification to Importers

This notice also serves as a final reminder to importers of their responsibility under 19 C.F.R. 351.402(f) to file a certificate regarding the reimbursement of antidumping duties prior to liquidation of the relevant entries during this review period. Failure to comply with this requirement could result in the Secretary's presumption that reimbursement of antidumping duties occurred and the subsequent assessment of doubled antidumping duties.

Administrative Protective Orders

This notice also serves as a reminder to parties subject to administrative protective order (“APO”) of their responsibility concerning the return or destruction of proprietary information disclosed under APO in accordance with 19 C.F.R. 351.305, which continues to govern business proprietary information in this segment of the proceeding. Timely written notification of the return/destruction of APO materials or conversion to judicial protective order is hereby requested. Failure to comply with the regulations and terms of an APO is a violation which is subject to sanction.

We are issuing and publishing these final results of administrative review in accordance with ections 751(a)(1) and 777(i)(1) of the Act, as well as 19 C.F.R. 351.221(b)(4) and 19 C.F.R. 51.213(d)(4).

Dated: December 8, 2006.
David M. Spooner,
Assistant Secretary for Import Administration.

[FR Doc. E6-21521 Filed 12-15-06; 8:45 am]

BILLING CODE 3510-DS-S